DEPARTMENT OF ENERGY

Federal Energy Regulatory Commission

[Project No. 2077-130]

Great River Hydro, LLC; Notice of Availability of Environmental Assessment

In accordance with the National Environmental Policy Act of 1969 and the Federal Energy Regulatory Commission's (Commission or FERC) regulations, 18 CFR part 380, Commission staff reviewed Great River Hydro, LLC's application for a temporary variance from its minimum flow requirements of the Fifteen Mile Falls Hydroelectric Project No. 2077 and have prepared an Environmental Assessment (EA) for the project.¹ Due to drought conditions, the licensee proposed to reduce flows released from its Comerford Dam to the Connecticut River to 600 cubic feet per second (cfs) from September 29, 2025 through January 31, 2026. The licensee stated that this temporary reduction was necessary to preserve the depleted storage capacity of its upstream Moore reservoir, and to prevent future flow reductions if the drought worsened. The Fifteen Mile Falls project spans a 26-mile reach of the Connecticut River, on the border of New Hampshire and Vermont, and includes three reservoirs: (1) the Moore Development at River Mile (RM) 283; (2) the Comerford Development at RM 275; and (3) the McIndoes Development at RM 268. The project is not located on federal lands.

¹ The unique identification number for documents relating to this environmental review is EAXX-019-20-000-1767861898.

The EA contains Commission staff's analysis of the potential environmental effects of the temporary variance from the minimum flow of the Comerford Development, and alternatives to the proposed action, and concludes that the proposed temporary variance, would not constitute a major federal action that would significantly affect the quality of the human environment.

The EA may be viewed on the Commission's website at http://www.ferc.gov using the “eLibrary” link. Enter the docket number (P-2077) in the docket number field to access the document. For assistance, contact FERC Online Support at FERCOnlineSupport@ferc.gov or toll-free at 1-866-208-3676, or for TTY, (202) 502-8659.

You may also register online at http://www.ferc.gov/docs-filing/esubscription.asp to be notified via email of new filings and issuances related to this or other pending projects. For assistance, contact FERC Online Support.

All comments must be filed by March 27, 2026, 5:00 p.m. Eastern Time.

The Commission strongly encourages electronic filing. Please file comments using the Commission's eFiling system at http://www.ferc.gov/docs-filing/efiling.asp. Commenters can submit brief comments up to 6,000 characters, without prior registration, using the eComment system at http://www.ferc.gov/docs-filing/ecomment.asp. For assistance, please contact FERC Online Support. In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. The first page of any filing should include docket number P-2077-130.

For public inquiries and assistance with making filings such as interventions, comments, or requests for rehearing, contact the Office of Public Participation at (202) 502-6595 or OPP@ferc.gov.

For further information, contact Erik Hazelton at 212-273-5911 or erik.hazelton@ferc.gov.

(Authority: 18 CFR 2.1)

Dated: February 25, 2026.
Debbie-Anne A. Reese,
Secretary.

[FR Doc. 2026-04132 Filed 3-2-26; 8:45 am]

BILLING CODE 6717-01-P